DEPARTMENT OF THE TREASURY

Submission for OMB Review; Comment Request

August 17, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 25, 2000 to be assured of consideration.

Bureau of Alcohol, Tobacco and Firearms (BATF)

OMB Number: 1512-0556.

Form Number: ATF F 6400.1.

Type of Review: Extension.

Title: State and Local Training Registration Request.

Description: ATF provides arson and explosives investigative techniques training to State and local investigators. The registration form will be used by prospective students.

Respondents: State, Local or Tribal Government.

Estimated Number of Respondents: 500.

Estimated Burden Hours Per Respondent: 6 minutes.

Estimated Total Reporting Burden: 50 hours.

OMB Number: 1512-0557.

Form Number: ATF F 5220.6.

Type of Review: Extension.

Title: Monthly Report—Tobacco Products Importer.

Description: Reports of the lawful importation and disposition of tobacco products dealers are necessary to determine whether those issued the permits required by 26 U.S.C. Section 5713 should be allowed to continue their operations or renew their permits.

Respondents: Business of other for-profit, Farms.

Estimated Number of Respondents: 1,500.

Estimated Burden Hours Per Respondent: 48 minutes.

Frequency of Response: Monthly.

Estimated Total Reporting Burden: 14,400 hours.

Clearance Officer: Frank Bowers (202) 927-8930, Bureau of Alcohol, Tobacco and Firearms, Room 3200, 650 Massachusetts Avenue, NW, Washington, DC 20226.

OMB Reviewer: Alexander T. Hunt, (202) 395-7860, Office of Management and Budget, Room 10202, New Executive Office Building, Washington, DC 20503.

Lois K. Holland,
Departmental Reports Management Officer.

[FR Doc. 00-21764 Filed 8-24-00; 8:45 am]

BILLING CODE 4810-31-P